DEPARTMENT OF HEALTH AND HUMAN SERVICES

Health Resources and Services Administration

Agency Information Collection Activities: Proposed Collection: Public Comment Request; Information Collection Request Title: Data System for Organ Procurement and Transplantation Network

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 31, 2024.

ADDRESSES: Submit your comments to paperwork@hrsa.gov or mail the HRSA Information Collection Clearance Officer, Room 14NWH04, 5600 Fishers Lane, Rockville, Maryland, 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Data System for Organ Procurement and Transplantation Network, OMB No. 0915-0157—Revision.

Abstract: Section 372 of the Public Health Service Act requires that the Secretary of Health and Human Services, by awards, provide for the establishment and operation of the Organ Procurement and Transplantation Network (OPTN), which, under HRSA's oversight, operates the U.S. organ procurement and transplantation system. HRSA, in alignment with the Paperwork Reduction Act of 1995, submits OPTN Board of Directors (BOD)-approved data elements for collection to OMB for official Federal approval.

Need and Proposed Use of the Information: HRSA and the OPTN BOD use data to develop transplant, procurement, and allocation policies; to determine whether institutional members are complying with policy; to determine member-specific performance; to ensure patient safety; and to fulfill the requirements of the OPTN Final Rule. In addition, the regulatory authority in 42 CFR 121.11 of the OPTN Final Rule requires the OPTN data to be made available, consistent with applicable laws, for use by OPTN members, the Scientific Registry of Transplant Recipients, the Department of Health and Human Services, and members of the public for evaluation, research, patient information, and other important purposes.

This is a request to revise the current OPTN data collection which includes time-sensitive, life-critical data on transplant candidates and potential organ donors, the organ matching process, histocompatibility results, organ labeling and packaging, and pre-and post-transplantation data on recipients and donors. This revision includes OPTN BOD-approved changes to the existing OMB data collection forms. The OPTN collects these specific data elements from transplant hospitals, organ procurement organizations, and histocompatibility laboratories.

HRSA and the OPTN use this information to (1) facilitate organ placement and match donor organs with recipients; (2) monitor compliance of member organizations with Federal laws and regulations and with OPTN requirements; (3) review and report periodically to the public on the status of organ donation, procurement, and transplantation in the United States; (4) provide data to researchers and government agencies to study the scientific and clinical status of organ transplantation; and (5) perform transplantation-related public health surveillance, including the possible transmission of donor disease.

HRSA is requesting to make the following changes to improve the OPTN organ matching and allocation process and improve OPTN member compliance with OPTN requirements:

(1) Adding data collection forms for candidates listed in the OPTN organ transplant waiting list to the existing OMB-approved information collection. These forms allow a transplant center to add, change, or remove candidates from the OPTN waiting list after a transplant center completes the patient evaluation. These forms contain information which the OPTN electronic organ matching system uses to match potential organ recipients with available deceased donor organs. There are 83 new data collection forms: candidate listing registration forms of all organs, candidate status justification forms of all applicable organs, Model for End-State Liver Disease or Pediatric End-Stage Liver Disease (MELD/PELD) score exception and extension forms, and other forms.

(2) OPTN BOD-approved revisions to existing data collection forms to improve organ matching, allocation, and OPTN policy compliance.

Likely Respondents: Transplant Centers, Organ Procurement Organizations (OPOs), and Histocompatibility Laboratories.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The estimated burden hours for this collection increased by 203,937.21 hours from the currently approved ICR package. This increase included 96,148.84 hours due to the addition of 83 new data collection forms for the OPTN waiting list and 107,788.37 hours due to OPTN BOD-approved data collection changes to existing forms and changes in the number of respondents.

Total Estimated Annualized Burden Hours
Form # | Form name | Number of respondents | Number of responses per respondent **** | Total responses | Average burden per response (in hours) | Total burden hours
1 | Deceased Donor Registration | 56 | 414.71 | 23,224 | 0.48 | 11,147.40
2 | Living Donor Registration | 207 | 33.42 | 6,918 | 2.19 | 15,150.29
3 | Living Donor Follow-up | 207 | 94.86 | 19,636 | 1.52 | 29,846.75
4 | Donor Histocompatibility | 138 | 173.31 | 23,917 | 0.20 | 4,783.36
5 | Recipient Histocompatibility | 138 | 307.09 | 42,378 | 0.40 | 16,951.37
6 | Heart Transplant Candidate Registration | 149 | 38.50 | 5,737 | 0.90 | 5,162.85
7 | Heart Transplant Recipient Registration | 149 | 30.50 | 4,545 | 1.96 | 8,907.22
8 | Heart Transplant Recipient Follow Up (6 Month) | 149 | 27.79 | 4,141 | 0.40 | 1,656.28
9 | Heart Transplant Recipient Follow Up (1-5 Year) | 149 | 109.21 | 16,272 | 0.90 | 14,645.06
10 | Heart Transplant Recipient Follow Up (Post 5 Year) | 149 | 183.73 | 27,376 | 0.50 | 13,687.89
11 | Heart Post-Transplant Malignancy Form | 149 | 12.21 | 1,819 | 0.90 | 1,637.36
12 | Lung Transplant Candidate Registration | 74 | 45.36 | 3,357 | 0.95 | 3,188.81
13 | Lung Transplant Recipient Registration | 74 | 40.85 | 3,023 | 1.14 | 3,446.11
14 | Lung Transplant Recipient Follow Up (6 Month) | 74 | 35.96 | 2,661 | 0.50 | 1,330.52
15 | Lung Transplant Recipient Follow Up (1-5 Year) | 74 | 135.61 | 10,035 | 1.10 | 11,038.65
16 | Lung Transplant Recipient Follow Up (Post 5 Year) | 74 | 148.09 | 10,959 | 0.60 | 6,575.20
17 | Lung Post-Transplant Malignancy Form | 74 | 18.39 | 1,361 | 0.40 | 544.34
18 | Heart/Lung Transplant Candidate Registration | 72 | 1.03 | 74 | 1.16 | 86.03
19 | Heart/Lung Transplant Recipient Registration | 72 | 0.75 | 54 | 2.09 | 112.86
20 | Heart/Lung Transplant Recipient Follow Up (6 Month) | 72 | 0.64 | 46 | 0.80 | 36.86
21 | Heart/Lung Transplant Recipient Follow Up (1-5 Year) | 72 | 2.46 | 177 | 1.10 | 194.83
22 | Heart/Lung Transplant Recipient Follow Up (Post 5 Year) | 72 | 3.35 | 241 | 0.60 | 144.72
23 | Heart/Lung Post-Transplant Malignancy Form | 72 | 0.22 | 16 | 0.40 | 6.34
24 | Liver Transplant Candidate Registration | 142 | 103.39 | 14,681 | 0.80 | 11,745.10
25 | Liver Transplant Recipient Registration | 142 | 75.08 | 10,661 | 1.20 | 12,793.63
26 | Liver Transplant Recipient Follow Up (6 Month-5 Year) | 142 | 344.55 | 48,926 | 1.00 | 48,926.10
27 | Liver Transplant Recipient Follow Up (Post 5 Year) | 142 | 427.56 | 60,714 | 0.50 | 30,356.76
28 | Liver Recipient Explant Pathology Form | 142 | 7.17 | 1,018 | 0.60 | 610.88
29 | Liver Post-Transplant Malignancy Form | 142 | 21.21 | 3,012 | 0.80 | 2,409.46
30 | Intestine Transplant Candidate Registration | 18 | 7.50 | 135 | 1.30 | 175.50
31 | Intestine Transplant Recipient Registration | 18 | 5.28 | 95 | 1.80 | 171.07
32 | Intestine Transplant Recipient Follow Up (6 Month-5 Year) | 18 | 21.50 | 387 | 1.50 | 580.50
33 | Intestine Transplant Recipient Follow Up (Post 5 Year) | 18 | 49.61 | 893 | 0.40 | 357.19
34 | Intestine Post-Transplant Malignancy Form | 18 | 0.94 | 17 | 1.00 | 16.92
35 | Kidney Transplant Candidate Registration | 228 | 203.12 | 46,311 | 0.80 | 37,049.09
36 | Kidney Transplant Recipient Registration | 228 | 119.89 | 27,335 | 1.20 | 32,801.90
37 | Kidney Transplant Recipient Follow Up (6 Month-5 Year) | 228 | 571.22 | 130,238 | 0.90 | 117,214.34
38 | Kidney Transplant Recipient Follow Up (Post 5 Year) | 228 | 565.59 | 128,955 | 0.50 | 64,477.26
39 | Kidney Post-Transplant Malignancy Form | 228 | 25.60 | 5,837 | 0.80 | 4,669.44
40 | Pancreas Transplant Candidate Registration | 123 | 2.63 | 323 | 0.60 | 194.09
41 | Pancreas Transplant Recipient Registration | 123 | 0.84 | 103 | 1.20 | 123.98
42 | Pancreas Transplant Recipient Follow Up (6 Month-5 Year) | 123 | 5.05 | 621 | 0.50 | 310.58
43 | Pancreas Transplant Recipient Follow Up (Post 5 Year) | 123 | 17.11 | 2,105 | 0.50 | 1,052.27
44 | Pancreas Post-Transplant Malignancy Form | 123 | 0.76 | 93 | 0.60 | 56.09
45 | Kidney/Pancreas Transplant Candidate Registration | 123 | 12.94 | 1,592 | 0.60 | 954.97
46 | Kidney/Pancreas Transplant Recipient Registration | 123 | 6.59 | 811 | 1.20 | 972.68
47 | Kidney/Pancreas Transplant Recipient Follow Up (6 Month-5 Year) | 123 | 38.12 | 4,689 | 0.50 | 2,344.38
48 | Kidney/Pancreas Transplant Recipient Follow Up (Post 5 Year) | 123 | 66.63 | 8,195 | 0.60 | 4,917.29
49 | Kidney/Pancreas Post-Transplant Malignancy Form | 123 | 2.24 | 276 | 0.40 | 110.21
50 | VCA Transplant Candidate Registration | 23 | 1.00 | 23 | 0.40 | 9.20
51 | VCA Transplant Recipient Registration | 23 | 0.39 | 9 | 1.36 | 12.20
52 | VCA Transplant Recipient Follow Up | 23 | 2.30 | 53 | 1.31 | 69.30
53 | Organ Labeling and Packaging | 56 | 298.27 | 16,703 | 0.18 | 3,006.56
54 | Organ Tracking and Validating | 304 | 20.36 | 6,189 | 0.08 | 495.16
55 | Kidney Paired Donation Candidate Registration | 156 | 0.34 | 53 | 0.26 | 13.79
56 | Kidney Paired Donation Donor Registration | 156 | 0.99 | 154 | 1.08 | 166.80
57 | Kidney Paired Donation Match Offer Management | 156 | 0.59 | 92 | 0.67 | 61.67
58 | Disease Transmission Event | 304 | 2.33 | 708 | 0.60 | 424.99
59 | Living Donor Event | 207 | 0.15 | 31 | 0.56 | 17.39
60 | Safety Situation | 442 | 0.93 | 411 | 0.24 | 98.65
61 | Potential Disease Transmission Report | 56 | 11.09 | 621 | 1.27 | 788.72
62 | Request to Unlock Form | 442 | 174.67 | 77,204 | 0.02 | 1,544.08
63 | Initial Donor Registration | 56 | 414.71 | 23,224 | 4.61 | 107,061.53
64 | OPO Notification Limit Administration | 56 | 9.52 | 533 | 0.17 | 90.63
65 | Potential Transplant Recipient | 304 | 6,017.74 | 1,829,393 | 0.05 | 91,469.65
66 | Death Notification Registration ** | 56 | 289.70 | 16,223 | 0.42 | 6,813.74
67 | Deceased Donor Death Referral ** | 56 | 58.11 | 3,254 | 0.50 | 1,627.08
68 | Donor Hospital Registration | 56 | 0.04 | 2 | 0.08 | 0.18
69 | Donor Organ Disposition | 56 | 414.71 | 23,224 | 0.17 | 3,948.04
70 | Transplant Center Contact Management | 248 | 808.10 | 200,409 | 0.06 | 12,024.53
71 | Adult Kidney Candidate Listing Registration *** | 228 | 204.93 | 46,724 | 0.52 | 24,296.50
72 | Pediatric Kidney Candidate Listing Registration *** | 101 | 11.66 | 1,178 | 0.47 | 553.50
73 | Adult Kidney Pancreas Candidate Listing Registration *** | 123 | 12.93 | 1,590 | 0.37 | 588.44
74 | Pediatric Kidney Pancreas Candidate Listing Registration *** | 29 | 0.07 | 2 | 0.30 | 0.61
75 | Adult Pancreas Candidate Listing Registration *** | 123 | 15.29 | 1,881 | 0.38 | 714.65
76 | Pediatric Pancreas Candidate Listing Registration *** | 30 | 1.13 | 34 | 0.38 | 12.88
77 | Adult Pancreas Islet Listing Registration | 16 | 2.06 | 33 | 0.38 | 12.52
78 | Pediatric Pancreas Islet Listing Registration *** | 16 | 0.00 | 0 | 0.33 | 0.00
79 | Adult Liver Candidate Listing Registration *** | 142 | 98.43 | 13,977 | 0.32 | 4,472.66
80 | Pediatric Liver Candidate Listing Registration *** | 57 | 12.37 | 705 | 0.40 | 282.04
81 | Adult Intestine Candidate Listing Registration *** | 18 | 4.94 | 89 | 0.38 | 33.79
82 | Pediatric Intestine Candidate Listing Registration *** | 18 | 2.56 | 46 | 0.43 | 19.81
83 | Adult Heart Candidate Listing Registration *** | 149 | 33.58 | 5,003 | 0.83 | 4,152.84
84 | Pediatric Heart Candidate Listing Registration *** | 64 | 11.47 | 734 | 0.58 | 425.77
85 | Adult HeartLung Candidate Listing Registration *** | 72 | 0.97 | 70 | 0.85 | 59.36
86 | Pediatric HeartLung Candidate Listing Registration *** | 27 | 0.15 | 4 | 0.93 | 3.77
87 | Adult Lung Candidate Listing Registration *** | 74 | 44.85 | 3,319 | 1.00 | 3,318.90
88 | Pediatric Lung Candidate Listing Registration *** | 45 | 0.84 | 38 | 0.83 | 31.37
89 | Candidate Registration Listing Removal *** | 248 | 289.27 | 71,739 | 0.18 | 12,913.01
90 | VCA Abdominal Wall Candidate Listing Registration *** | 8 | 0.38 | 3 | 0.33 | 1.00
91 | VCA External Male Genitalia Candidate Listing Registration *** | 2 | 0.00 | 0 | 0.33 | 0.00
92 | VCA Head and Neck Candidate Listing Registration *** | 10 | 0.50 | 5 | 0.33 | 1.65
93 | VCA Lower Limb Candidate Listing Registration *** | 4 | 0.00 | 0 | 0.33 | 0.00
94 | VCA Musculoskeletal Composite Graft Segment Candidate Listing Registration *** | 2 | 0.00 | 0 | 0.33 | 0.00
95 | VCA Other Genitourinary Organ Candidate Listing Registration *** | 3 | 0.00 | 0 | 0.33 | 0.00
96 | VCA Spleen Candidate Listing Registration *** | 0 | 0.00 | 0 | 0.33 | 0.00
97 | VCA Upper Limb Candidate Listing Registration *** | 11 | 0.27 | 3 | 0.33 | 0.98
98 | VCA Uterus Candidate Listing Registration *** | 6 | 2.00 | 12 | 0.33 | 3.96
99 | VCA Vascularized Gland Candidate Listing Registration *** | 8 | 0.00 | 0 | 0.33 | 0.00
100 | Organ Export Verification Form *** | 56 | 0.46 | 26 | 0.03 | 0.77
101 | OPTN Waiting Time Transfer Form *** | 248 | 5.54 | 1,374 | 0.23 | 316.00
102 | OPTN Waiting Time Modification Form *** | 248 | 59.40 | 14,731 | 0.22 | 3,240.86
103 | OPTN Renal Waiting Time Reinstatement Form *** | 228 | 1.21 | 276 | 0.27 | 74.49
104 | OPTN Pancreas Waiting Time Reinstatement Form *** | 123 | 0.03 | 4 | 0.20 | 0.74
105 | Intestinal Waiting Time Reinstatement Form *** | 18 | 0.00 | 0 | 0.25 | 0.00
106 | Prior Living Donor Priority *** | 228 | 0.25 | 57 | 0.27 | 15.39
107 | Kidney Minimum Acceptance Criteria *** | 228 | 0.47 | 107 | 0.30 | 32.15
108 | Adult Liver Status 1A Initial Justification and Extension Form *** | 142 | 2.31 | 328 | 0.57 | 186.97
109 | Pediatric Liver Status 1A Initial Justification and Extension Form *** | 57 | 2.30 | 131 | 0.57 | 74.73
110 | Pediatric Liver Status 1B Initial Justification and Extension Form *** | 57 | 5.61 | 320 | 0.47 | 150.29
111 | Liver Cholangiocarcinoma (CCA) Initial MELD/PELD Score Exception Form *** | 142 | 0.42 | 60 | 0.43 | 25.65
112 | Liver Cholangiocarcinoma (CCA) MELD/PELD Score Exception Extension Form *** | 142 | 0.34 | 48 | 0.32 | 15.45
113 | Liver Cystic Fibrosis (CF) Initial MELD/PELD Score Exception and Extension Form *** | 142 | 0.10 | 14 | 0.33 | 4.69
114 | Liver Familial Amyloid Polyneuropathy (FAP) Initial MELD/PELD Score Exception Form *** | 142 | 0.04 | 6 | 0.40 | 2.27
115 | Liver Familial Amyloid Polyneuropathy (FAP) MELD/PELD Score Exception Extension Form *** | 142 | 0.05 | 7 | 0.30 | 2.13
116 | Liver Hepatic Artery Thrombosis (HAT) Initial MELD/PELD Score Exception and Extension Form *** | 142 | 0.69 | 98 | 0.35 | 34.29
117 | Liver Hepatocellular Carcinoma (HCC) Initial MELD/PELD Score Exception Form *** | 142 | 23.30 | 3,309 | 0.47 | 1,555.04
118 | Liver Hepatocellular Carcinoma (HCC) MELD/PELD Score Exception Extension Form *** | 142 | 33.21 | 4,716 | 0.35 | 1,650.54
119 | Liver Hepatopulmonary Syndrome (HPS) Initial MELD/PELD Score Exception Form *** | 142 | 1.39 | 197 | 0.32 | 63.16
120 | Liver Hepatopulmonary Syndrome (HPS) MELD/PELD Score Exception Extension Form *** | 142 | 0.99 | 141 | 0.25 | 35.15
121 | Liver Metabolic Disease Initial MELD/PELD Score Exception and Extension Form *** | 142 | 0.77 | 109 | 0.28 | 30.62
122 | Liver Portopulmonary Hypertension Initial MELD/PELD Score Exception Form *** | 142 | 0.51 | 72 | 0.42 | 30.42
123 | Liver Portopulmonary Hypertension MELD/PELD Score Exception Extension Form *** | 142 | 0.36 | 51 | 0.33 | 16.87
124 | Liver Primary Hyperoxaluria Initial MELD/PELD Score Exception and Extension Form *** | 142 | 0.13 | 18 | 0.35 | 6.46
125 | Liver Other Diagnosis Initial MELD/PELD Score Exception and Extension Form *** | 142 | 12.03 | 1,708 | 0.35 | 597.89
126 | Pediatric Heart and HeartLung Status 1A Initial Justification Form *** | 64 | 16.06 | 1,028 | 0.52 | 534.48
127 | Pediatric Heart and HeartLung Status 1A Extension and Appeal Justification Forms *** | 64 | 54.61 | 3,495 | 0.47 | 1,642.67
128 | Pediatric Heart and HeartLung Status 1B Initial Justification Form *** | 64 | 7.31 | 468 | 0.42 | 196.49
129 | Adult Heart and HeartLung Status 1-6 Justification Form Demographic Data *** | 149 | 135.78 | 20,231 | 0.32 | 6,473.99
130 | Adult Heart and HeartLung Status 1-6 Justification Form Risk Stratification Data *** | 149 | 135.78 | 20,231 | 0.72 | 14,566.48
131 | Adult Heart and HeartLung Status 1 Initial Justification Form Medical Urgency Data *** | 149 | 5.69 | 848 | 0.58 | 491.73
132 | Adult Heart and HeartLung Status 1 Exception Extension Justification Form Medical Urgency Data *** | 149 | 0.46 | 69 | 0.33 | 22.62
133 | Adult Heart and HeartLung Status 1 Criteria 1 Extension Justification Form Medical Urgency Data *** | 149 | 0.43 | 64 | 0.53 | 33.96
134 | Adult Heart and HeartLung Status 2 Initial Justification Form Medical Urgency Data *** | 149 | 25.91 | 3,861 | 0.80 | 3,088.47
135 | Adult Heart and HeartLung Status 2 Exception Extension Justification Form Medical Urgency Data *** | 149 | 9.87 | 1,471 | 0.33 | 485.31
136 | Adult Heart and HeartLung Status 2 Criteria 1 Extension Justification Form Medical Urgency Data *** | 149 | 0.03 | 4 | 0.42 | 1.88
137 | Adult Heart and HeartLung Status 2 Criteria 4 Extension Justification Form Medical Urgency Data *** | 149 | 3.05 | 454 | 0.63 | 286.30
138 | Adult Heart and HeartLung Status 2 Criteria 5 Extension Justification Form Medical Urgency Data *** | 149 | 1.70 | 253 | 0.60 | 151.98
139 | Adult Heart and HeartLung Status 3 Initial Justification Form Medical Urgency Data *** | 149 | 11.91 | 1,775 | 0.63 | 1,117.99
140 | Adult Heart and HeartLung Status 3 Exception Extension Justification Form Medical Urgency Data *** | 149 | 6.88 | 1,025 | 0.33 | 338.29
141 | Adult Heart and HeartLung Status 3 Criteria 2 Extension Justification Form Medical Urgency Data *** | 149 | 0.64 | 95 | 0.32 | 30.52
142 | Adult Heart and HeartLung Status 3 Criteria 5 Extension Justification Form Medical Urgency Data *** | 149 | 0.11 | 16 | 0.48 | 7.87
143 | Adult Heart and HeartLung Status 4 Initial Justification Form Medical Urgency Data *** | 149 | 23.51 | 3,503 | 0.50 | 1,751.50
144 | Adult Heart and HeartLung Status 4 Exception Extension Justification Form Medical Urgency Data *** | 149 | 1.73 | 258 | 0.25 | 64.44
145 | Adult Heart and HeartLung Status 4 Criteria 2 Extension Justification Form Medical Urgency Data *** | 149 | 0.56 | 83 | 0.40 | 33.38
146 | Adult and Pediatric Lung and HeartLung Goal Exception Form *** | 149 | 3.72 | 554 | 0.75 | 415.71
147 | Pediatric Lung Priority 1 Status Justification Form *** | 45 | 1.16 | 52 | 0.33 | 17.23
148 | Review Board Voter Form *** | 248 | 22.46 | 5,570 | 0.23 | 1,281.12
149 | Living Donor Feedback Form *** | 207 | 37.73 | 7,810 | 0.13 | 1,015.31
150 | Extra Vessels Reporting Form *** | 248 | 53.71 | 13,320 | 0.03 | 399.60
151 | Non-US Transplants Reporting Form *** | 228 | 0.00 | 0 | 0.03 | 0.00
152 | Discrepant HLA Typings Reporting Form *** | 138 | 0.78 | 108 | 5.17 | 556.50
153 | Interim Event Reporting Form *** | 248 | 72.58 | 18,000 | 0.06 | 1,079.99
| Total | 18,697 |  | 3,184,246 |  | 851,565.51
* The numbers of respondents and the numbers of total responses in the burden table were updated with 2023 OPTN data and reflect increases in the number of organ transplants and changes in the number of respondents (Transplant Centers, OPOs, and Histocompatibility Labs).
** These two forms will not be used once the OPTN Process Data OMB package is approved and implemented. The OPTN Process Data OMB package is new and will be considered separate from this package. We are including these forms in this collection to avoid any lapse in approval of these forms while the OPTN Process Data package is being approved.
*** These are new forms.
**** If a form has 0.00 under average number of responses, this is an indicator that there were no submissions in calendar year 2023.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy P. McNulty,
Deputy Director, Executive Secretariat.

[FR Doc. 2024-25506 Filed 10-31-24; 8:45 am]

BILLING CODE 4165-15-P